NATIONAL CREDIT UNION ADMINISTRATION

12 CFR Parts 701, 704, and 741

RIN 3133-AD74

Corporate Credit Unions

AGENCY: National Credit Union Administration (NCUA).

ACTION: Notice of extension of comment period.

SUMMARY: On November 18, 2010, the NCUA Board issued a proposed rule amending its corporate credit union rule. 75 FR 73000 (November 29, 2010). NCUA has received a request to extend the comment period set in the proposed rule and has determined to extend the comment period for an additional 30 days.

DATES: Comments must now be received by January 28, 2011.

ADDRESSES: You may submit comments by any of the following methods (Please send comments by one method only):

Federal eRulemaking Portal: http://www.regulations.gov. Follow the instructions for submitting comments.

NCUA Web site: http://www.ncua.gov/Resources/RegulationsOpinionsLaws/ProposedRegulations.aspx.

Follow the instructions for submitting comments.

E-mail: Address to regcomments@ncua.gov. Include “[Your name] Comments on “Notice of Proposed Rulemaking for Part 704—Corporate Credit Unions” in the e-mail subject line.

Fax: (703) 518-6319. Use the subject line described above for e-mail.

Mail: Address to Mary Rupp, Secretary of the Board, National Credit Union Administration, 1775 Duke Street, Alexandria, Virginia 22314-3428. Hand Delivery/Courier: Same as mail address.

Public Inspection: All public comments are available on the agency's Web site at http://www.ncua.gov/Resources/RegulationsOpinionsLaws/ProposedRegulations.aspx as submitted, except as may not be possible for technical reasons. Public comments will not be edited to remove any identifying or contact information. Paper copies of comments may be inspected in NCUA's law library at 1775 Duke Street, Alexandria, Virginia 22314, by appointment weekdays between 9 a.m. and 3 p.m. To make an appointment, call (703) 518-6546 or send an e-mail to OGCMail@ncua.gov.

FOR FURTHER INFORMATION CONTACT: Jacqueline Lussier, Staff Attorney, Office of General Counsel; Elizabeth Wirick, Staff Attorney, Office of General Counsel; and Lisa Henderson, Staff Attorney, Office of General Counsel, at the address above or telephone (703) 518-6540; or David Shetler, Deputy Director, Office of Corporate Credit Unions, at the address above or telephone (703) 518-6640.

SUPPLEMENTARY INFORMATION: On November 18, 2010, the NCUA Board issued proposed amendments to its rule governing corporate credit unions (corporates) contained in part 704. The amendments include internal control and reporting requirements for corporates similar to those required for banks under the Federal Deposit Insurance Act and the Sarbanes-Oxley Act. The amendments require each corporate to establish an enterprise-wide risk management committee staffed with at least one risk management expert. The amendments provide for the equitable sharing of Temporary Corporate Credit Union Stabilization Fund expenses among all members of corporates, including both credit union and noncredit union members. The amendments increase the transparency of decision-making by requiring corporates conduct all board of director votes as recorded votes and include the votes of individual directors in the meeting minutes. The amendments permit corporates to charge their members reasonable one-time or periodic membership fees as necessary to facilitate retained earnings growth. For senior corporate executives who are dual employees of corporate credit union service organizations (CUSOs), the amendments require disclosure of certain compensation received from the corporate CUSO. In addition, this proposal would amend parts 701 and 741 to limit natural person credit unions to membership in one corporate credit union at any particular time and provide that a natural person credit union may not make any investment in a corporate credit union of which the natural person credit union is not also a member. 75 FR 73000 (November 29, 2010).

NCUA requested comments on its proposal and set a 30-day comment period, originally scheduled to end on December 29, 2010. NCUA has received a request to extend the comment period. The NCUA Board believes a 30-day extension will facilitate the submission of comments without causing undue delay to the rulemaking process. Accordingly, the comment period is extended and comments must now be received by January 28, 2011.

By the National Credit Union Administration Board on November 29, 2010.
Mary F. Rupp,
Secretary of the Board.

[FR Doc. 2010-30426 Filed 12-3-10; 8:45 am]

BILLING CODE 7535-01-P